DEPARTMENT OF TRANSPORTATION

Pipeline and Hazardous Materials Safety Administration

Office of Hazardous Materials Safety; Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before October 22, 2010.

ADDRESS COMMENTS TO: Record Center, Pipeline and Hazardous, Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington, DC, or at http://regulations.gov.

This notice of receipt of applications for special permit is published in accordance with Part 107 of the Federal hazardous materials transportation law (49 U.S.C. 5117(b); 49 CFR 1.53(b)).

Issued in Washington, DC, on September 14, 2010.
Donald Burger,
Chief, Special Permits and Approvals Branch.

New Special Permits
Application Number No. | Docket No. | Applicant | Regulation(s) affected | Nature of special permits thereof
15110-N |  | Kidde Aerospace and Defense (KAD) Wilson, NC | 49 CFR 178.65 | To authorize the manufacture, marking, sale and use of non-DOT specification cylinders (fire extinguishers) that are used as components on US Army tactical vehicles and commercial buses. (modes 1, 2, 3, 4).
15125-N |  | Essex Cryogenics of Missouri, Inc., St. Louis, MO | 49 CFR 178.57(f) | To authorize an alternative method of calculating wall thickness in spherical pressure vessels manufactured to DOT Specification 4L. (modes 1, 2, 3, 4).
15126-N |  | Trans Aero Ltd., Cheyenne, WY | 49 CFR 172.101, Column (9B), 172.200, 172.300, 172.400, 172.204(c)(3), 173.27(b)(2), 175.30(a)(1) | To authorize the transportation of certain forbidden explosives and other hazardous materials by helicopter in remote areas of the U.S. only without being subject to hazard communication requirements and quantity limitations. (mode 4).
15127-N |  | EnerSys, Reading, PA | 49 CFR 173.159(e)(4) | To authorize the transportation in commerce of lead batteries from more than one shipper without voiding the exception in § 173.159(e). (mode 1).
15128-N |  | Crown Battery, Fremont, OH | 49 CFR 173.159(e)(4) | To authorize the transportation in commerce of lead batteries from more than one shipper without voiding the exception in § 173.159(e). (mode 1).
15129-N |  | KaVan Air, Anchorage, AK | 49 CFR 172.101 Column (9B) | To authorize the transportation in commerce of certain Class 1 explosive materials which are forbidden for transportation by air, to be transported by cargo aircraft within and around the State of Alaska when other means of transportation are impracticable or not available. (mode 4).
15130-N |  | Sundance Helicopters, Inc., Las Vegas, NV | 49 CFR 173.242 | To authorize the transportation in commerce of gasoline in 55 gallon drums attached to or suspended from an aircraft by Part 133 Rotorcraft External Load Operations, in remote areas of the U.S. (mode 4).
15131-N |  | CVA Inc., Mont Belvieu, TX | 49 CFR 173.319 and 179.401-1 | To authorize the manufacture, marking, sale and use of DOT Specification 113A90W tank cars for the transportation in commerce of certain non-flammable cryogenic liquids. The tank car is excepted from the requirement to replace the rupture disc every year, rather they must be replaced every five years. (mode 2).
15132-N |  | National Aeronautics and Space Administration (NASA), Washington, DC | 49 CFR 173.301 and 178.53 | To authorize the transportation in commerce of certain Division 2.1 and 2.2 gases in alterative packaging when transported by motor vehicle. (mode 1).

[FR Doc. 2010-23452 Filed 9-21-10; 8:45 am]

BILLING CODE 4910-60-M